DEPARTMENT OF COMMERCE

International Trade Administration

[A-821-820, A-307-824]

Ferrosilicon From the Russian Federation and Venezuela: Postponement of Preliminary Determinations of Antidumping Duty Investigations

AGENCY: Enforcement and Compliance, formerly Import Administration, International Trade Administration, Department of Commerce.

DATES: Effective Date: December 23, 2013.

FOR FURTHER INFORMATION CONTACT: Irene Gorelik (Russia) or Kabir Archuletta (Venezuela), AD/CVD Operations, Office V, Enforcement and Compliance, International Trade Administration, U.S. Department of Commerce, 14th Street and Constitution Avenue NW., Washington, DC 20230; telephone: (202) 482-6905 or (202) 482-2593, respectively.

SUPPLEMENTARY INFORMATION:

Background

On August 8, 2013, the Department of Commerce (“the Department”) initiated antidumping duty investigations on ferrosilicon from the Russian Federation (“Russia”) and Venezuela.¹ The Initiation Notice stated that, unless postponed, the Department would issue its preliminary determinations in these investigations no later than 140 days after the date of issuance of the initiations, in accordance with section 733(b)(1)(A) of the Tariff Act of 1930, as amended (“the Act”), and 19 CFR 351.205(b)(1).²

¹ See Ferrosilicon From the Russian Federation and Venezuela: Initiation of Antidumping Duty Investigations, 78 FR 49471 (August 14, 2013) (“Initiation Notice”).

² See id., 78 FR at 49474.

As explained in the memorandum from the Assistant Secretary for Enforcement and Compliance, the Department has exercised its discretion to toll deadlines for the duration of the closure of the Federal Government from October 1, through October 16, 2013.³ Therefore, all deadlines in these investigations have been extended by 16 days. The tolled deadline for the preliminary determinations of these investigations is January 13, 2014.

³ See “Memorandum for the Record from Paul Piquado, Assistant Secretary for Enforcement and Compliance, `Deadlines Affected by the Shutdown of the Federal Government,'” dated October 18, 2013.

Postponement of the Preliminary Determinations

On December 5, 2013, Petitioners ⁴ made a timely request, pursuant to 19 CFR 351.205(e), for postponement of the preliminary determinations in these investigations to afford the Department additional time to review the respondent's sections A, B, C, and D questionnaire submissions and supplemental responses with revised data, as well as other information critical to the proceedings, such as the cost investigation of Russian ferrosilicon, the mandatory respondent's complex corporate structure and sales processes,⁵ review all questionnaire responses and supplemental responses complicated by a potential cost investigation of FerroAtlantica de Venezuela, S.A.⁶ (“FerroVen”), and data reported by FerroVen affected by high inflation in the Venezuelan economy.⁷

⁴ Petitioners are Globe Specialty Metals, Inc.; CC Metals and Alloys, LLC; the United Steel, Paper and Forestry, Rubber, Manufacturing, Energy, Allied Industrial and Service Workers International Union; and the International Union, United Automobile, Aerospace and Agricultural Implement Workers of America (“UAW”).

⁵ See Letter to the Department from Petitioners; re: Ferrosilicon From the Russian Federation; Request for Postponement of the Preliminary Determination, dated December 5 2013.

⁶ See Letter to the Department from Petitioners; re: Ferrosilicon From Venezuela; Request for Postponement of the Preliminary Determination, dated December 5 2013.

⁷ See id.

Because there are no compelling reasons to deny the request, the Department is postponing the deadline for the preliminary determinations in these investigations by 50 days to March 4, 2014, pursuant to section 733(c)(1)(A) of the Act and 19 CFR 351.205(e). In accordance with section 735(a)(1) of the Act, the deadline for the final determinations of these investigations will continue to be 75 days after the date of the preliminary determinations, unless extended at a later date.

This notice is issued and published pursuant to section 733(c)(2) of the Act and 19 CFR 351.205(f)(1).

Dated: December 17, 2013.
Ronald K. Lorentzen,
Acting Assistant Secretary for Enforcement and Compliance.

[FR Doc. 2013-30531 Filed 12-20-13; 8:45 am]

BILLING CODE 3510-DS-P